DEPARTMENT OF COMMERCE

National Oceanic and Atmospheric Administration

[RTID 0648-XC646]

North Pacific Fishery Management Council; Public Meeting

AGENCY: National Marine Fisheries Service (NMFS), National Oceanic and Atmospheric Administration (NOAA), Commerce.

ACTION: Notice of hybrid meeting.

SUMMARY: The North Pacific Fishery Management Council (Council) Salmon Bycatch Committee will meet January 25, 2023.

DATES: The meeting will be held on Wednesday, January 25, 2023, from 9 a.m. to 5 p.m. Alaska Time.

ADDRESSES: The meeting will be a hybrid meeting. Attend in-person at the North Pacific Fishery Management Council office, 1007 West Third Ave., Suite 400, Anchorage, AK 99501 or join online through the link at https://meetings.npfmc.org/Meeting/Details/2972.

Council address: North Pacific Fishery Management Council, 1007 W 3rd Ave., Anchorage, AK 99501-2252; telephone: (907) 271-2809. Instructions for attending the meeting are given under SUPPLEMENTARY INFORMATION, below.

FOR FURTHER INFORMATION CONTACT: Dr. Diana Stram, Council staff; phone: (907) 271-2809 and email: diana.stram@noaa.gov. For technical support, please contact our administrative staff; email: npfmc.admin@noaa.gov.

SUPPLEMENTARY INFORMATION:

Agenda

Wednesday, January 25, 2023

The agenda will include: (a) review of the State of Alaska Bycatch Task Force recommendations; (b) Process and timeline for initiating an amendment/analysis; (c) Discussion of regulatory and non-regulatory management measures for consideration including caps and closures considered in 2012; and (d) and other business. The agenda is subject to change, and the latest version will be posted at https://meetings.npfmc.org/Meeting/Details/2972 prior to the meeting, along with meeting materials.

Connection Information

You can attend the meeting online using a computer, tablet, or smart phone; or by phone only. Connection information will be posted online at: https://meetings.npfmc.org/Meeting/Details/2972.

Public Comment

Public comment letters will be accepted and should be submitted electronically to https://meetings.npfmc.org/Meeting/Details/2972.

Dated: January 4, 2023.
Rey Israel Marquez,
Acting Deputy Director, Office of Sustainable Fisheries, National Marine Fisheries Service.

[FR Doc. 2023-00195 Filed 1-9-23; 8:45 am]

BILLING CODE 3510-22-P